DEPARTMENT OF LABOR

Employment and Training Administration

[TA-W-70,784]

Chrysler Group LLC Formerly Known as Chrysler LLC Kenosha Engine Plant Including On-Site Leased Workers From Caravan Knight Facilities Management LLC, Syncreon, Mahar Tool Supply Company, Waste Management, Quaker Chemical Corporation, K+S Services, Inc., G4S Secure Solutions, Crassociates, Inc., CES, Inc., Evans Distribution Systems, Prodriver Leasing Systems, Inc., Teksystems, Inc., and Arcadis Kenosha, WI; Amended Certification Regarding Eligibility To Apply for Worker Adjustment Assistance

In accordance with Section 223 of the Trade Act of 1974, as amended (“Act”), 19 U.S.C. 2273, the Department of Labor issued a Certification of Eligibility to Apply for Worker Adjustment Assistance on August 13, 2010, applicable to workers of Chrysler Group, LLC, formerly known as Chrysler, LLC, Kenosha Engine Plant, Kenosha, Wisconsin (subject firm). The Department's notice of determination was published in the Federal Register on November 5, 2009 (74 57340). The certification applicable to workers of the subject firm was amended May 10, 2010 to include on-site leased workers from Caravan Knight Facilities Management and on August 13, 2010 to include on-site leased workers from Syncreon. The Department's notices of amended certification were published in the Federal Register on June 16, 2010 (75 FR 34170) and August 30, 2010 (75 FR 52982), respectively.

The workers at the subject firm were engaged in employment related to the production of V-6 automobile engines.

At the request of the State agency, the Department reviewed the certification for workers of the subject firm.

The company reports that workers leased from not only Caravan Knight Facilities Management LLC and Syncreon, but also Mahar Tool Supply Company, Waste Management, Quaker Chemical Corporation, K+S Services, Inc., G4S Secure Solutions, CRAssociates, Inc., CES, Inc., Evans Distribution Systems, ProDriver Leasing Systems, Inc., Teksystems, Inc., and Arcadis, Kenosha, Wisconsin were employed on-site at the Kenosha, Wisconsin location of Chrysler Group, LLC, formerly known as Chrysler, LLC, Kenosha Engine Plant. The Department has determined that these workers were sufficiently under the control of the subject firm to be considered leased workers.

Based on these findings, the Department is amending this certification to include workers leased from Mahar Tool Supply Company, Waste Management, Quaker Chemical Corporation, K+S Services, Inc., G4S Secure Solutions, CRAssociates, Inc., CES, Inc., Evans Distribution Systems, ProDriver Leasing Systems, Inc., Teksystems, Inc., and Arcadis working on-site at the Kenosha, Wisconsin location of Chrysler Group, LLC, formerly known as Chrysler, LLC, Kenosha Engine Plant.

The amended notice applicable to TA-W-70,784 is hereby issued as follows:

All workers of Chrysler Group, LLC, formerly known as Chrysler, LLC, Kenosha Engine Plant, including on-site leased workers of Caravan Knight Facilities Management LLC, Syncreon, Mahar Tool Supply Company, Waste Management, Quaker Chemical Corporation, K+S Services, Inc., G4S Secure Solutions, CRAssociates, Inc., CES, Inc., Evans Distribution Systems, ProDriver Leasing Systems, Inc., Teksystems, Inc., and Arcadis, Kenosha, Wisconsin, who became totally or partially separated from employment on or after May 27, 2008, through September 2, 2011, and all workers in the group threatened with total or partial separation from employment on the date of certification through two years from the date of certification, are eligible to apply for adjustment assistance under Chapter 2 of Title II of the Trade Act of 1974, as amended.

Signed in Washington, DC, this 18th day of November 2010.
Del Min Amy Chen,
Certifying Officer, Office of Trade Adjustment Assistance.

[FR Doc. 2010-30540 Filed 12-6-10; 8:45 am]

BILLING CODE 4510-FN-P